DEPARTMENT OF HEALTH AND HUMAN SERVICES

Substance Abuse and Mental Health Services Administration

Statement of Organization, Functions, and Delegations of Authority

Part M of the Substance Abuse and Mental Health Services Administration (SAMHSA) Statement of Organization, Functions, and Delegations of Authority for the Department of Health and Human Services at 69 FR 60891, October 13, 2004, is amended to reflect the new functional statement for the Center for Mental Health Services (CMHS), Office of the Director (MS-1), and the Division of Prevention, Traumatic Stress and Special Programs (MSC). This amendment is necessary to reflect the transfer of the HIV/AIDS program from the Office of the Director, to the Division of Prevention, Traumatic Stress and Special Programs portfolio and link HIV/AIDS services program with related activities in the Division. This change streamlines program management effectiveness. The changes are as follows:

Section M.20, Functions is amended as follows:

(A) The functional statements for the Center for Mental Health Services (MS), Office of the Director (MS-1) and the Division of Prevention, Traumatic Stress and Special Programs (MSC) are replaced with the following:

Office of the Director (MS-1)

(1) Provides leadership in planning, implementing, and evaluating the Center's goals, priorities, policies, and programs, including equal employment opportunity, and is the focal point for the Department's efforts in mental health services; (2) plans, directs, and provides overall administration of the programs of CMHS; (3) conducts and coordinates Center interagency, interdepartmental, intergovernmental, and international activities; (4) provides information to the public and constituent organizations on CMHS programs; (5) maintains liaison with national organizations, other Federal departments/agencies, the National Institute of Mental Health and with other SAMHSA Centers; (6) administers committee management and reports clearance activities; (7) conducts services quality and financing activities and coordinates these activities with other components in SAMHSA; (8) conducts consumer affairs activities; and (9) monitors the conduct of equal employment opportunity activities of CMHS.

Division of Prevention, Traumatic Stress and Special Programs (MSC)

(1) Serves as the focal point in planning for alcohol, drug abuse, and mental health services during national disasters; (2) cooperates with the Office of Emergency Response and the Federal Emergency Management Agency (FEMA) and other Federal agencies to coordinate disaster assistance, community response, and other mental health emergency services as a consequence of national disasters or mass criminal events, such as terrorism and school shootings; (3) serves as a focal point for refugee mental health programs, including liaison with other Federal agencies; (4) conducts program development activities and engages with the faith community, when appropriate, to promote effective programs and polices to special populations including women, minorities, youth in juvenile justice facilities, and elderly persons living in rural areas; and (5) administers youth violence and suicide prevention programs, trauma and terrorism/bio-terrorism initiatives, and programs that prevent mental and behavioral disorders and promote mental health and resilience across the lifecycle, and (6) promotes the prevention of HIV infection in people at risk, the delivery of effective mental health services for people with HIV infection, and the education of health care providers to address the neuro psychiatric and the psycho social aspects of HIV infection and AIDS.

Section M.40, Delegations of Authority: All delegations and redelegations of authority to officers and employees of SAMHSA which were in effect immediately prior to the effective date of this reorganization shall continue in effect pending further redelegations, providing they are consistent with the reorganization.

These organizational changes are effective.
Dated: May 20, 2005.
Charles G. Curie,
Administrator.

[FR Doc. 05-10715 Filed 5-27-05; 8:45 am]

BILLING CODE 4160-01-P